DEPARTMENT OF TRANSPORTATION

Federal Motor Carrier Safety Administration

49 CFR Parts 382 and 383

RIN 2126-AB95

General Technical, Organizational, Conforming, and Correcting Amendments to the Federal Motor Carrier Safety Regulations; Correction

AGENCY: Federal Motor Carrier Safety Administration (FMCSA), DOT.

ACTION: Correcting amendment.

SUMMARY: The Federal Motor Carrier Safety Administration corrects an inadvertent error in the October 4, 2016 final rule “General Technical, Organizational, Conforming, and Correcting Amendments to the Federal Motor Carrier Safety Regulations.” Due to an error, the rule unintentionally did not include the word “and” at the end of the next to last condition for a farm vehicle driver to take advantage of the farm vehicle driver exceptions to commercial driver's license standards and alcohol and drug testing requirements. Today's correction makes it clear that all four conditions in each farm vehicle driver exception must be met in order for the exception to be used.

DATES: Effective: October 13, 2016.

FOR FURTHER INFORMATION CONTACT: Mr. David Miller, Federal Motor Carrier Safety Administration, Regulatory Development Division, 1200 New Jersey Avenue SE., Washington, DC 20590-0001, by telephone at (202) 366-5370. Office hours are from 9:00 a.m. to 5:00 p.m. e.t., Monday through Friday, except Federal holidays.

SUPPLEMENTARY INFORMATION: The Federal Motor Carrier Safety Administration published a document in the Federal Register on October 4, 2016 (81 FR 68336). This correction updates the amendments published on October 4, 2016. In rule FR Doc. 2016-22996, published on October 4, 2016 (81 FR 68336).

List of Subjects

49 CFR Part 382

Administrative practice and procedure, Alcohol abuse, Drug abuse, Drug testing, Highway safety, Motor carriers, Penalties, Safety, Transportation.

49 CFR Part 383

Administrative practice and procedure, Alcohol abuse, Drug abuse, Highway safety, Motor carriers.

Accordingly, 49 CFR part 382 is corrected by making the following correcting amendments:

PART 382—CONTROLLED SUBSTANCES AND ALCOHOL USE AND TESTING

1. The authority citation for part 382 continues to read as follows:

Authority: 49 U.S.C. 31133, 31136, 31301 et seq., 31502; sec. 32934 of Public Law 112-141, 126 Stat. 405, 830; and 49 CFR 1.87.

2. In § 382.103, revise paragraph (d)(3)(i)(C) to read as follows:

§ 382.103 Applicability.* * * * *

(d) * * *

(3) * * *

(i) * * *

(C) Not used in the operations of a for-hire motor carrier, except for an exempt motor carrier as defined in § 390.5 of this subchapter; and

* * * * *

PART 383—COMMERCIAL DRIVER'S LICENSE STANDARDS; REQUIREMENTS AND PENALTIES

3. The authority citation for part 383 continues to read as follows:

Authority: 49 U.S.C. 521, 31136, 31301 et seq., and 31502; secs. 214 and 215 of Public Law 106-159, 113 Stat. 1748, 1766, 1767; sec. 1012(b) of Public Law 107-56, 115 Stat. 272, 297, sec. 4140 of Public Law 109-59, 119 Stat. 1144, 1746; sec. 32934 of Public Law 112-141, 126 Stat. 405, 830; sec. 7208 of Public Law 114-94, 129 Stat. 1312, 1593; and 49 CFR 1.87.

4. In § 383.3, revise paragraph (d)(1)(iii) to read as follows:

§ 383.3 Applicability.

* * * * *

(d) * * *

(1) * * *

(iii) Not used in the operations of a for-hire motor carrier, except for an exempt motor carrier as defined in § 390.5 of this subchapter; and

* * * * *

Issued on: October 6, 2016.
Larry W. Minor,
Associate Administrator for Policy.

[FR Doc. 2016-24922 Filed 10-13-16; 8:45 am]

BILLING CODE 4910-EX-P